DEPARTMENT OF HEALTH AND HUMAN SERVICES

Centers for Disease Control and Prevention

[Docket Number NIOSH-226]

Request for Information on Implementation of the James Zadroga 9/11 Health and Compensation Act of 2010 (Pub. L. 111-347)

AGENCY: National Institute for Occupational Safety and Health (NIOSH), Centers for Disease Control and Prevention (CDC), Department of Health and Human Services (HHS).

ACTION: Notice of public comment period.

SUMMARY: The National Institute for Occupational Safety and Health (NIOSH) of the Centers for Disease Control and Prevention (CDC) requests comments from the public on implementing the provisions of the James Zadroga 9/11 Health and Compensation Act of 2010 (Pub. L. 111-347). A copy of the Act is posted on the Internet at http://www.cdc.gov/niosh/docket in the NIOSH Docket number 226. The Federal government is developing an implementation plan, and comments from the public will assist in this process by gaining perspectives from interested parties on ways to meet the Act's requirements. The public is invited to submit written comments to the NIOSH Docket number 226. A public meeting on March 3, 2011, was previously announced in the Federal Register (76 FR 7862) on February 11, 2011 to accept oral comments from the public.

Public Comment Period: All comments must be received by April 29, 2011.

ADDRESSES: Written comments may be submitted to the NIOSH Docket Office, identified by Docket number NIOSH-226, by any of the following methods:

• Mail: NIOSH Docket Office, Robert A. Taft Laboratories, MS-C34, 4676 Columbia Parkway, Cincinnati, OH 45226.

• Facsimile: (513) 533-8285.

• E-mail: nioshdocket@cdc.gov.

All information received in response to this notice will be available for public examination and copying at the NIOSH Docket Office, Room 111, 4676 Columbia Parkway, Cincinnati, Ohio 45226.

A complete electronic docket containing a copy of the James Zadroga 9/11 Health and Compensation Act of 2010 (Pub. L. 111-347) and all comments submitted will be available on the NIOSH Web site at http://www.cdc.gov/niosh/docket. All comments received will be available for public inspection, including any personally identifiable or confidential business information that is included in a comment. Because comments will be made public, they should not include any sensitive personal information, such as a person's social security number; date of birth; driver's license number; state identification number or foreign country equivalent; passport number; financial account number; or credit or debit card number. Comments also should not include any sensitive health information, such as medical records or other individually identifiable health information, or any non-public corporate or trade association information, such as trade secrets or other proprietary information.

FOR FURTHER INFORMATION CONTACT: Roy Fleming, Sc.D., CDC/NIOSH, 1600 Clifton Road, NE., MS-E20, Atlanta, Georgia 30333, Toll free 1-866-426-3673, e-mail: nioshdocket@cdc.gov.

Dated: February 28, 2011.
John Howard,
Director, National Institute for Occupational Safety and Health, Centers for Disease Control and Prevention.

[FR Doc. 2011-5111 Filed 3-4-11; 8:45 am]

BILLING CODE 4163-19-P